MILLENNIUM CHALLENGE CORPORATION

[MCC FR 05-03]

Notice of March 14, 2005 Millennium Challenge Corporation Board of Directors Meeting; Sunshine Act Meeting

AGENCY: Millennium Challenge Corporation.

Time and Date: 1-3 p.m., Monday, March 14, 2005.

Place: Department of State, C Street Entrance, Washington, DC 20520.

FOR FURTHER INFORMATION CONTACT: Information on the meeting may be obtained from Joyce B. Lanham at Board@mcc.gov or 202-521-3600.

Status: Meeting will be closed to the public.

Matters to be Considered: The Board of Directors (the “Board”) of the Millennium Challenge Corporation (“MCC”) will hold a quarterly meeting of the Board to discuss and consider a proposed Millennium Challenge Account (“MCA”) Compact under the provisions of Section 605(a) of the Millennium Challenge Act, codified at 22 U.S.C. 7706(a); other information relating to Compact development efforts with other MCA-eligible countries; the MCC Threshold Program; and certain administrative matters. The meeting will be closed to the public because it is expected to involve the consideration of classified information and information relating to the internal personnel practices of MCC.

Dated: March 2, 2005.
Jon A. Dyck,
Vice President and General Counsel, Millennium Challenge Corporation.

[FR Doc. 05-4324 Filed 3-2-05; 11:12 am]

BILLING CODE 9210-01-P